DEPARTMENT OF COMMERCE

National Oceanic and Atmospheric Administration

RIN 0648-XG142

Magnuson-Stevens Act Provisions; General Provisions for Domestic Fisheries; Application for Exempted Fishing Permits

AGENCY: National Marine Fisheries Service (NMFS), National Oceanic and Atmospheric Administration (NOAA), Commerce.

ACTION: Notice; request for comments.

SUMMARY: The Assistant Regional Administrator for Sustainable Fisheries, Greater Atlantic Region, NMFS (Assistant Regional Administrator), has made a preliminary determination that three exempted fishing permit applications contain all of the required information and warrant further consideration. These exempted fishing permits would authorize five commercial fishing vessels to test the economic viability of using hook gear to selectively target pollock and haddock in the Western Gulf of Maine and Cashes Ledge Closure Areas (excluding the Cashes Ledge Habitat Management Area), and to temporarily retain undersized catch for measurement and data collection.

Regulations under the Magnuson-Stevens Fishery Conservation and Management Act require publication of this notification to provide interested parties the opportunity to comment on applications for proposed exempted fishing permits.

DATES: Comments must be received on or before April 27, 2018.

ADDRESSES: You may submit written comments by any of the following methods:

• Email: NMFS.GAR.EFP@noaa.gov. Include in the subject line “Comments on EFP Applications for Hook Gear Access to WGOM and Cashes Ledge Closure Areas.”

• Mail: Michael Pentony, Regional Administrator, NMFS, Greater Atlantic Regional Fisheries Office, 55 Great Republic Drive, Gloucester, MA 01930. Mark the outside of the envelope “Comments on EFP Applications for Hook Gear Access to WGOM and Cashes Ledge Closure Areas.”

FOR FURTHER INFORMATION CONTACT: Kyle Molton, Fishery Management Specialist, 978-281-9236, Kyle.Molton@noaa.gov.

SUPPLEMENTARY INFORMATION: Two commercial fishermen and a groundfish sector submitted complete applications to renew exempted fishing permits (EFPs) on February 16, 2018, to conduct commercial fishing activities that the regulations would otherwise restrict. These EFPs would authorize five commercial fishing vessels to fish a combined total of 150 trips in the Western Gulf of Maine (WGOM) and Cashes Ledge Closure Areas, excluding the Cashes Ledge Habitat Management Area (HMA), with hook gear, and to temporarily retain undersized catch for measurement and data collection. Within the Cashes Ledge Closure Area, access would be permitted in the Fippennies Ledge HMA, but not in the Cashes Ledge or Ammen Rock HMAs. These HMAs were developed as part of the New England Fisheries Management Council's Omnibus Essential Fish Habitat Amendment 2, and approved by NMFS on January 3, 2018.

The EFPs would authorize the applicants to use hook gear to selectively target pollock and haddock while maintaining minimal bycatch. In addition, the applicants would also explore and develop premium markets to increase the value of the catch. This study would be conducted in the WGOM and Cashes Ledge Closure Areas. The applicants have requested access to these areas based on reports, and experimental fishing, which suggest that there are high concentrations of the target species located in these areas. The exemptions are necessary to conduct this study because vessels on commercial groundfish trips are prohibited from fishing for groundfish in these closed areas and from retaining undersized groundfish. EFP trips would occur year-round, excluding existing seasonal closures.

Participating vessels would take a combined total of 150 trips to closed areas. Trips would be roughly 24 hours or less in length. Vessels would use automated jigging machines, handline, and rod and reel gears only. Based on preliminary 2017 data, estimated catch on these trips is between 1,000 and 2,000 lb (453.5 to 907.2 kg) of pollock and haddock, combined, per trip. 2017 data indicate that catch of non-target species is small; cod represented less than 10 percent of catch overall, and other species were encountered only sporadically or in low numbers.

Because these vessels would be fishing in closed areas, and must minimize interactions with non-target species like cod, the use of a vessel monitoring system and 100-percent monitoring would be required for all vessels. A research technician or at-sea monitor would accompany all trips that occur under these EFPs to measure and document fish caught and document fishing gear, bait, location, and fishing conditions to evaluate gear performance. The vessel captains would also document fishing practices used to avoid bycatch of non-target species. Undersized fish would be discarded as quickly as possible after sampling. All Northeast multispecies of legal size would be landed, and all catch would be attributed to the vessel's sector annual catch entitlement. The applicants will also document ex-vessel price for all sold catch for comparison with other harvest methods and markets. The participating vessels would not be exempt from any sector monitoring or reporting requirements.

If approved, the applicants may request minor modifications and extensions to the EFPs throughout the year. EFP modifications and extensions may be granted without further notice if they are deemed essential to facilitate completion of the proposed research and have minimal impacts that do not change the scope or impact of the initially approved EFP request.

Authority: 16 U.S.C. 1801 et seq.

Dated: April 9, 2018.
Jennifer M. Wallace,
Acting Director, Office of Sustainable Fisheries, National Marine Fisheries Service.

[FR Doc. 2018-07597 Filed 4-11-18; 8:45 am]

BILLING CODE 3510-22-P